DEPARTMENT OF COMMERCE

Foreign-Trade Zones Board

[B-28-2022]

Foreign-Trade Zone (FTZ) 241—Fort Lauderdale, Florida; Notification of Proposed Production Activity; Almod Diamonds Ltd., Inc. (Jewelry, Precious and Semi-Precious Stones, and Pearls), Miramar, Florida

Almod Diamonds Ltd., Inc., submitted a notification of proposed production activity to the FTZ Board (the Board) for its facility in Miramar, Florida, within FTZ 241. The notification conforming to the requirements of the Board's regulations (15 CFR 400.22) was received on June 28, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: jewelry (rings, earrings, bracelets, necklaces, pendants, broaches) of silver or precious metal other than silver (such as gold, platinum, or palladium), base metal clad with precious metal, or imitation; jewelry of precious or semi-precious stones (such as cubic zirconium); imitation jewelry (cuff links and studs); pearls (natural, cultured); non-industrial diamonds; rubies; sapphires; emeralds; precious stones or semi-precious stones (other than diamonds, rubies, sapphires, and emeralds), cut but not set and suitable for use in the manufacture of jewelry; and, scrap (gold, platinum, silver) (duty rate ranges from duty-free to 13.5%).

The proposed foreign-status materials and components include: jewelry (rings, earrings, bracelets, necklaces, pendants, broaches) of silver or precious metal other than silver (such as gold, platinum, or palladium), base metal clad with precious metal, or imitation; jewelry of precious or semi-precious stones (such as cubic zirconium); imitation jewelry (cuff links and studs); pearls (natural, cultured); non-industrial diamonds; rubies; sapphires; emeralds; and, precious stones or semi-precious stones (other than diamonds, rubies, sapphires, and emeralds), cut but not set and suitable for use in the manufacture of jewelry (duty rate ranges from duty-free to 13.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 16, 2022.

A copy of the notification will be available for public inspection in the “Online FTZ Information System” section of the Board's website.

For further information, contact Juanita Chen at juanita.chen@trade.gov.

Dated: June 30, 2022.
Andrew McGilvray,
Executive Secretary.

[FR Doc. 2022-14414 Filed 7-6-22; 8:45 am]

BILLING CODE 3510-DS-P